DEPARTMENT OF HOMELAND SECURITY

Federal Emergency Management Agency

44 CFR Part 65

Changes in Flood Elevation Determinations

AGENCY: Federal Emergency Management Agency, DHS.

ACTION: Final rule.

SUMMARY: Modified Base (1 % annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Houston, (FEMA Docket No.: B-7467) | City of Dothan (05-04-A105P) | May 18, 2006; May 25, 2006; Dothan Eagle | The Honorable Pat Thomas, Mayor, City of Dothan, P.O. Box 2128, Dothan, Alabama 36302 | August 24, 2006 | 010104
Jefferson, (FEMA Docket No.: B-7467) | City of Trussville (06-04-BI39P) | June 22, 2006; June 29, 2006; Birmingham News | The Honorable Eugene A. Melton, Mayor, City of Trussville, Trussville City Hall, 131 Main Street, Trussville, Alabama 35173 | September 28, 2006 | 010133
Jefferson, (FEMA Docket No.: B-7467) | Unincorporated areas of Jefferson County (06-04-BI39P) | June 22, 2006; June 29, 2006; Birmingham News | The Honorable Larry Langford, President, Jefferson County Commission, Jefferson County Courthouse, Room 240, 716 Richard Arrington Jr. Boulevard, North Birmingham, Alabama 35203 | September 28, 2006 | 010217
Jefferson, (FEMA Docket No.: B-7467) | Unincorporated areas of Jefferson County (06-04-B748P) | July 27, 2006; August 3, 2006; Birmingham News | The Honorable Larry Langford, President, Jefferson County Commission, Jefferson County Courthouse, Room 240, 716 Richard Arrington Jr. Boulevard, North Birmingham, Alabama 35203 | June 30, 2006 | 010217
Madison, (FEMA Docket No.: B-7467) | City of Huntsville (06-04-B136P) | July 14, 2006; July 21, 2006; Madison County Record | The Honorable Loretta Spencer, Mayor, City of Huntsville, P.O. Box 308, Huntsville, Alabama 35804 | June 26, 2006 | 010153
Mobile, (FEMA Docket No.: B-7467) | Unincorporated areas of Mobile County (06-04-A402P) | July 20, 2006; July 27, 2006; Mobile Press Register | Mr. John Pafenbach, County Administrator, Mobile County, 205 Government Street, Mobile, Alabama 36644 | June 30, 2006 | 015008
Shelby, (FEMA Docket No.: B-7467) | City of Pelham (06-04-B342P) | July 12, 2006; July 19, 2006; Shelby County Reporter | The Honorable Bobby Hayes, Mayor, City of Pelham, P.O. Box 1419, Pelham, Alabama 35124 | October 18, 2006 | 010193
Tuscaloosa, (FEMA Docket No.: B-7467) | City of Northport (05-04-1187P) | January 18, 2006; January 25, 2006; The Northport Gazette | The Honorable Harvey Fretwell, Mayor, City of Northport, City Hall, 3500 McFarland Boulevard, Northport, Alabama 35476 | April 26, 2006 | 010202
Tuscaloosa, (FEMA Docket No.: B-7467) | City of Northport (05-04-A392P) | May 17, 2006; May 24, 2006; The Northport Gazette | The Honorable Harvey Fretwell, Mayor, City of Northport, City Hall, 3500 McFarland Boulevard, Northport, Alabama 35476 | August 23, 2006 | 010202
Tuscaloosa, (FEMA Docket No.: B-7467) | City of Tuscaloosa (05-04-A392P) | May 17, 2006; May 24, 2006; The Northport Gazette | The Honorable Walter Maddox, Mayor, City of Tuscaloosa, P.O. Box 2089, Tuscaloosa, Alabama 35403-2089 | August 23, 2006 | 010203
Tuscaloosa, (FEMA Docket No.: B-7467) | Unincorporated areas of Tuscaloosa County (05-04-1187P) | January, 18 2006; January 25, 2006; The Northport Gazette | The Honorable W. Hardy McCollum, Chairman, Tuscaloosa County, Board of Commissioners, 714 Greensboro Avenue, Tuscaloosa, Alabama 35401 | April 26, 2006 | 010201
Tuscaloosa, (FEMA Docket No.: B-7467) | Unincorporated areas of Tuscaloosa County (05-04-A392P) | May 17, 2006; May 24, 2006; The Northport Gazette | The Honorable W. Hardy McCollum, Chairman, Tuscaloosa County, Board of Commissioners, 714 Greensboro Avenue, Tuscaloosa, Alabama 35401 | August 23, 2006 | 010201
Arkansas:
Benton, (FEMA Docket No.: B-7467) | City of Rogers (05-06-A559P) | August 30, 2006; September 6, 2006; Arkansas Democrat Gazette Rogers Hometown News | The Honorable Steve Womack, Mayor, City of Rogers, 300 West Poplar Street, Rogers, Arkansas 72756 | July 28, 2006 | 050013
Arizona:
Maricopa, (FEMA Docket No.: B-7467) | City of Chandler (04-09-1562P) | November 10, 2005; November 17, 2005; Arizona Business Gazette | The Honorable Boyd W. Dunn, Mayor, City of Chandler, P.O. Box 4008, Mail Stop 603, Chandler, Arizona 85244-4008 | October 26, 2005 | 040040
Maricopa, (FEMA Docket No.: B-7467) | City of Avondale (06-09-B472P) | July 13, 2006; July 20, 2006; Arizona Business Gazette | The Honorable Marie Lopez-Rogers, Mayor, City of Avondale, 525 North Central Avenue, Avondale, Arizona 85323 | June 30, 2006 | 040038
Maricopa, (FEMA Docket No.: B-7467) | Town of Paradise Valley (05-09-1284P) | December 8, 2005; December 15, 2005; Arizona Business Gazette | The Honorable Ron Clarke, Mayor, Town of Paradise, 6401 East Lincoln Drive, Paradise Valley, Arizona 85253 | March 16, 2006 | 040049
Maricopa, (FEMA Docket No.: B-7467) | City of Phoenix (05-09-1284P) | December 8, 2005; December 15, 2005; Arizona Business Gazette | The Honorable Phil Gordon, Mayor, City of Phoenix, 200 West Washington Street, 11th Floor, Phoenix, Arizona 85003-1611 | March 16, 2006 | 040051
Pinal, (FEMA Docket No.: B-7467) | Unincorporated areas of Pinal County (05-09-A319P) | February 8, 2006; February 15, 2006; Copper Basin News | The Honorable Sandie Smith, Chair, Pinal County Board of Supervisors, P.O. Box 827, Florence, Arizona 85232 | January 30, 2006 | 040077
Pinal, (FEMA Docket No.: B-7467) | Unincorporated areas of Pinal County (06-09-B339P) | April 19, 2006; April 26, 2006; Copper Basin News | The Honorable Sandie Smith, Chair, Pinal County Board of Supervisors, P.O. Box 827, Florence, Arizona 85232 | March 31, 2006 | 040077
California: Alameda, (FEMA Docket No.: B-7474) | Unincorporated areas of Alameda County (06-09-B390P) | September 14, 2006; September 21, 2006; Tri-Valley Herald | The Honorable Keith Carson, President, Alameda County Board of Supervisors 1221 Oak Street, Suite 536, Oakland, CA 94612 | August 18, 2006 | 060001
Delaware: New Castle, (FEMA Docket No.: B-7474) | Unincorporated areas of New Castle County (06-03-B140P) | October 5, 2006; October 12, 2006; The News Journal | The Honorable Chris Coons, County Executive, New Castle County, 87 Read's Way, New Castle, DE 19720 | January 4, 2007 | 105085
Florida:
Duval, (FEMA Docket No.: B-7467) | City of Jacksonville (05-04-1679P) | November 14, 2005; November 21, 2005; Daily Record, | The Honorable John Peyton, Mayor, City of Jacksonville 117 West Duval Street, Jacksonville, Florida 32202-3731 | October 27, 2005 | 120077
Duval, (FEMA Docket No.: B-7467) | City of Jacksonville (05-04-A259P) | June 19, 2006; June 26, 2006; Daily Record | The Honorable John Peyton, Mayor, City of Jacksonville, 117 West Duval Street, Jacksonville, Florida 32202-3731 | September 25, 2006 | 120077
Duval, (FEMA Docket No.: B-7467) | City of Jacksonville (05-04-A260P) | May 15, 2006; May 22, 2006; Daily Record | The Honorable John Peyton, Mayor, City of Jacksonville, 117 West Duval Street, Jacksonville, Florida 32202-3731 | August 21, 2006 | 120077
Duval, (FEMA Docket No.: B-7467) | City of Jacksonville (06-04-A703P) | June 19, 2006; June 26, 2006; Daily Record | The Honorable John Peyton, Mayor, City of Jacksonville, 117 West Duval Street, Jacksonville, Florida 32202-3731 | September 25, 2006 | 120077
Duval, (FEMA Docket No.: B-7467) | City of Jacksonville (06-04-B326P) | May 15, 2006; May 22, 2006; Daily Record, | The Honorable John Peyton, Mayor, City of Jacksonville, 117 West Duval Street, Jacksonville, Florida 32202-3731 | April 27, 2006 | 120077
Duval, (FEMA Docket No.: B-7467) | City of Jacksonville (06-04-BF40P) | August 21, 2006; August 28, 2006; Daily Record | The Honorable John Peyton, Mayor, City of Jacksonville, 117 West Duval Street, Jacksonville, Florida 32202-3731 | November 27, 2006 | 120077
Lake, (FEMA Docket No.: B-7467) | Unincorporated areas of Lake County (05-04-3652P) | June 16, 2006; June 23, 2006; Daily Commercial | The Honorable Catherine C. Hanson, Chairman, Lake County Board of Commissioners, P.O. Box 7800, Tavares, Florida 32778 | May 23, 2006 | 120421
Lake, (FEMA Docket No.: B-7467) | City of Mount Dora (05-04-3654P) | June 15, 2006; June 22, 2006; Daily Commercial | The Honorable James E. Yatsuk, Mayor, City of Mount Dora, P.O. Box 176, Mount Dora, Florida 32756 | May 23, 2006 | 120137
Manatee, (FEMA Docket No.: B-7467) | Unincorporated areas of Manatee County (05-04-0296P) | March 16, 2006; March 23, 2006; Bradenton Herald | The Honorable Joe McClash, Chairman, Manatee County Board of Commissioners, P.O. Box 1000, Bradenton, Florida 34206-1000 | June 22, 2006 | 120153
Manatee, (FEMA Docket No.: B-7467) | Unincorporated areas of Manatee County (05-04-A393P) | May 18, 2006; May 25, 2006; Bradenton Herald | The Honorable Joe McClash, Chairman, Manatee County Board of Commissioners, P.O. Box 1000, Bradenton, Florida 34206-1000 | April 28, 2006 | 120153
Marion, (FEMA Docket No.: B-7467) | Unincorporated areas of Marion County (05-04-A236P) | June 22, 2006; June 29, 2006; Ocala Star Banner | The Honorable Patrick G. Howard, County Administrator, Marion County, 601 Southeast 25th Avenue, Ocala, Florida 34471 | September 28, 2006 | 120160
Miami-Dade, (FEMA Docket No.: B-7467) | City of Miami (06-04-BL20P) | July 20, 2006; July 27, 2006; New Times | The Honorable Manuel A. Diaz, Mayor, City of Miami, Miami City Hall, 3500 Pan American Drive, Miami, Florida 33133 | June 30, 2006 | 120650
Putnam, (FEMA Docket No.: B-7467) | Unincorporated areas of Putnam County (06-04-B037P) | May 18, 2006; May 25, 2006; Palatka Daily News | Mr. Rick Larry, County Administrator, Putnam County, P.O. Box 758, Palatka, Florida 32178 | August 24, 2006 | 120272
Georgia:
Barrow, (FEMA Docket No.: B-7467) | Unincorporated areas of Barrow County (05-04-3757P) | April 5, 2006; April 12, 2006; Barrow County News | The Honorable Douglas H. Garrison, Chairman, Barrow County Board of Commissioners, 233 East Broad Street, Winder, Georgia 30680 | September 13, 2006 | 130497
Bartow, (FEMA Docket No.: B-7467) | City of Cartersville (05-04-1806P) | June 22, 2006; June 29, 2006; Daily Tribune News | The Honorable Michael G. Fields, Mayor, City of Cartersville, P.O. Box 1390, Cartersville, Georgia 30120 | September 28, 2006 | 130209
Bartow, (FEMA Docket No.: B-7467) | Unincorporated areas of Bartow County (05-04-1806P) | June 22, 2006; June 29, 2006; Daily Tribune News | The Honorable Clarence Brown, Bartow County Commissioner, 135 West Cherokee Avenue, Suite 251, Cartersville, Georgia 30120 | September 28, 2006 | 130463
Cherokee, (FEMA Docket No.: B-7467) | Unincorporated areas of Cherokee County (05-04-A211P) | August 25, 2006; September 1, 2006; Cherokee Tribune | The Honorable J. Michael Byrd, Chairman, Cherokee County, 90 North Street, Suite 310, Canton, Georgia 30114 | December 1, 2006 | 130424
Columbia, (FEMA Docket No.: B-7467) | Unincorporated Areas of Columbia County (05-04-2889P) | August 23, 2006; August 30, 2006; Columbia County News-Times | The Honorable Ron C. Cross, Chairman, Board of Commissioners, Columbia County, 908 Nerium Trail, Evans, Georgia 30809 | November 29, 2006 | 130059
Forsyth, (FEMA Docket No.: B-7467) | Unincorporated areas of Forsyth County (05-04-1738P) | May 24, 2006; May 31, 2006; Forsyth County News | Mr. Jeff L. Quesenberry, County Manager, Forsyth County, 110 East Main Street, Suite 210, Cumming, Georgia 30040 | July 26, 2006 | 130312
Forsyth, (FEMA Docket No.: B-7467) | Unincorporated areas of Forsyth County (05-04-2202P) | April 12, 2006; April 19, 2006; Forsyth County News | The Honorable Jack Conway, Commission Chairman, Forsyth County, 110 East Main Street, Suite 210, Cumming, Georgia 30040 | July 19, 2006 | 130312
Harris, (FEMA Docket No.: B-7467) | Unincorporated areas of Harris County (05-04-A568P) | June 15, 2006; June 22, 2006; Harris County Journal | Mr. Kim W. Russell, Executive Director, Harris County, P.O. Box 426, Hamilton, Georgia 31811 | May 24, 2006 | 130338
Thomas, (FEMA Docket No.: B-7467) | City of Thomasville (06-04-B168P) | March 24, 2006; March 31, 2006; Thomasville Times Enterprise | The Honorable David Lewis, Mayor, City of Thomasville, P.O. Box 1540, Thomasville, Georgia 31799 | March 6, 2006 | 130170
Iowa:
Black Hawk, (FEMA Docket No.: B-7467) | City of Cedar Falls (04-07-A141P) | February 23, 2006; March 2, 2006; Waterloo Courier | The Honorable Jon Crews, Mayor, City of Cedar Falls, 220 Clay Street, Cedar Falls, Iowa 50613 | February 6, 2006 | 190017
Linn, (FEMA Docket No.: B-7467) | Unincorporated areas of Linn County (05-07-0212P) | April 20, 2006; April 27, 2006; Cedar Rapids Gazette | The Honorable Linda Langston, Chairperson, Linn County Board of Supervisors, 930 First Street Southwest, Cedar Rapids, Iowa 52404 | March 31, 2006 | 190829
Story, (FEMA Docket No.: B-7467) | City of Ames (04-07-A685P) | November 10, 2005; November 17, 2005; The Tribune | The Honorable Ted Tedesco, Mayor, City of Ames, 515 Clark Avenue, Ames, Iowa 50010 | February 16, 2006 | 190254
Kansas:
Cowley, (FEMA Docket No.: B-7467) | City of Arkansas City (04-07-A497P) | March 15, 2006; March 22, 2006; Arkansas City Traveler | The Honorable Joel Hockenbury, Mayor, City of Arkansas City, 118 West Central Avenue, Arkansas City, Kansas 67005 | June 21, 2006 | 200070
Cowley, (FEMA Docket No.: B-7467) | Unincorporated areas of Cowley County, (04-07-A497P) | March 15, 2006; March 22, 2006; Arkansas City Traveler | The Honorable Gary Wilson, Chairman, Cowley County Board of Commissioners, 311 East Ninth Avenue, Winfield, Kansas 67156 | June 21, 2006 | 200563
Harvey, (FEMA Docket No.: B-7467) | City of Sedgwick (04-07-A502P) | January 26, 2006; February 2, 2006; The Newton Kansan | The Honorable Keith Dehaven, Mayor, City of Sedgwick, 511 North Commercial, Sedgwick, Kansas 67135 | May, 4 2006 | 200134
Harvey, (FEMA Docket No.: B-7467) | Unincorporated areas of Harvey County (04-07-A502P) | January 26, 2006; February 2, 2006; The Newton Kansan | The Honorable Ron Krehbiel, Chairman, Harvey County, Board of Commissioners, P.O. Box 687, Newton, Kansas 67114 | May 4, 2006 | 200585
Johnson, (FEMA Docket No.: B-7467) | City of Overland Park (05-07-A066P) | February 9, 2006; February 16, 2006; The Johnson County Sun | The Honorable Carl Gerlach, Mayor, City of Overland Park, 8500 Santa Fe Drive, Overland Park, Kansas 66212 | January 20, 2006 | 200174
Sedgwick, (FEMA Docket No.: B-7467) | Unincorporated areas Sedgwick County (05-07-0176P) | February 9, 2006; February 16, 2006; Derby Reporter | The Honorable Dave Unruh, Chairman, Sedgwick County, Board of Commissioners, 525 North Main Street, Suite 320, Wichita, Kansas 67203 | May 18, 2006 | 200321
Sedgwick, (FEMA Docket No.: B-7467) | Unincorporated areas of Sedgwick County (05-07-B015P) | June 8, 2006; June 15, 2006; Wichita Eagle | The Honorable Dave Unruh, Chairman, Sedgwick County, Board of Commissioners, 525 North Main Street, Suite 320, Wichita, Kansas 67203 | May 16, 2006 | 200321
Sedgwick, (FEMA Docket No.: B-7467) | City of Wichita (05-07-0752P) | May 18, 2006; May 25, 2006; Wichita Eagle | The Honorable Carlos Mayans, Mayor, City of Wichita, 455 North Main, Wichita, Kansas 67202 | August 24, 2006 | 200328
Sedgwick (FEMA Docket No.: B-7467) | City of Wichita (06-07-B015P) | June 8, 2006; June 15, 2006; Wichita Eagle | The Honorable Carlos Mayans, Mayor, City of Wichita, 455 North Main, Wichita, Kansas 67202 | May 16, 2006 | 200328
Wyandotte, (FEMA Docket No.: B-7467) | City of Kansas City (04-07-A556P) | May 25, 2006; June 1, 2006; Kansas City Daily Record | The Honorable Joe Reardon, Mayor, Unified Government of Wyandotte County/Kansas City, 701 North Seventh Street, Kansas City, Kansas 66101 | August 31, 2006 | 200363
Maine:
Cumberland, (FEMA Docket No.: B-7467) | Town of Standish (05-01-B168P) | August 31, 2006; September 7, 2006; Portland Press Herald | Mr. Gordon F. Billington, Town Manager, Town of Standish, 175 Northeast Road, Standish, Maine 04084 | December 7, 2006 | 230207
Cumberland, (FEMA Docket No.: B-7467) | Town of Windham (06-01-B270P) | September 14, 2006; September 21, 2006; Portland Press Herald | The Honorable John MacKinnon, Chairman, Windham Town Council, Eight School Road, Windham, Maine 04062 | December 21, 2006 | 230189
Minnesota:
Ramsey (FEMA Docket No.: B7467) | City of Shoreview (04-05-B066P), (06-05-BD34X) | December 20, 2005; December 27, 2005; The North Suburban Press | The Honorable Sandy Martin, Mayor, City of Shoreview, 4600 Victoria Street North, Shoreview, Minnesota 55126 | March 31, 2006 | 270384
Rice, (FEMA Docket No.: B7467) | City of Northfield (05-05-1343P) | November 16, 2005; November 23, 2005; Northfield News | The Honorable Lee Lansing, Mayor, City of Northfield, City Hall, 801 Washington Street, Northfield, Minnesota 55057 | February 22, 2006 | 270406
Rice, (FEMA Docket No.: B7467) | Unincorporated areas of Rice County (05-05-1343P) | November 16, 2005; November 23, 2005; Northfield News | The Honorable Jim Brown, Chairperson, Rice County, Board of Commissioners, 320 Northwest Third Street, Faribault, Minnesota 55021 | February 22, 2006 | 270646
Missouri:
Clay, Jackson, Platte (FEMA Docket No.: B7467) | City of Kansas City (05-07-0483P) | January 26, 2006; February 2, 2006; Kansas City Daily Record | The Honorable Kay Barnes, Mayor, City of Kansas City, 414 East 12th Street, Kansas City, Missouri 64106 | May 4, 2006 | 290173
Clay, Jackson, Platte (FEMA Docket No.: B7467) | City of Kansas City (04-07-A556P) | May 25, 2006; June 1, 2006; Kansas City Daily Record | The Honorable Kay Barnes, Mayor, City of Kansas City, 414 East 12th Street, Kansas City, Missouri 64106 | August 31, 2006 | 290173
Howell, (FEMA Docket No.: B7467) | City of West Plains (05-07-A513P) | May 19, 2006; May 25, 2006; West Plains Daily Quill | The Honorable Joe Paul Evans, Mayor, City of West Plains, P.O. Box 710, West Plains, Missouri 65775-0710 | August 24, 2006 | 290166
Jackson, (FEMA Docket No.: B7467) | City of Grain Valley (04-07-A290P) | February 23, 2006; March 3, 2006; The Independence Examiner | The Honorable David Halphin, Mayor, City of Grain Valley, 711 Main Street, Grain Valley, Missouri 64029 | June 1, 2006 | 290737
Jefferson, (FEMA Docket No.: B7467) | City of De Soto (06-07-B476P) | May 18, 2006; May 25, 2006; Jefferson County Leader | The Honorable Werner Stichling, Mayor, City of De Soto, 411 Lueking Drive, De Soto, Missouri 63020 | April 27, 2006 | 295263
Pettis, (FEMA Docket No.: B7467) | City of Sedalia (05-07-0407P) | June 22, 2006; June 29, 2006; Sedalia Democrat | The Honorable Bob Wasson, Mayor, City of Sedalia, P.O. Box 1707, Sedalia, Missouri 65301 | May 31, 2006 | 290283
Phelps, (FEMA Docket No.: B7467) | City of Rolla (05-07-0279P) | December 15, 2005; December 22, 2005; Rolla Daily News | The Honorable Joseph E. Morgan, Mayor, City of Rolla, 102 West Ninth Street, Rolla, Missouri 65401 | November 22, 2005 | 290285
Platte, (FEMA Docket No.: B7467) | City of Northmoor (04-07-A556P) | May 25, 2006; June 1, 2006; The Landmark | The Honorable Harlan Shaver, Jr., Mayor, City of Northmoor, 4907 Northwest Waukomis Drive, Northmoor, Missouri 64151 | August 31, 2006 | 290293
Platte, (FEMA Docket No.: B7467) | City of Parkville (04-07-A556P) | May 25, 2006; June 1, 2006; The Landmark | The Honorable Kathy Dusenbery, Mayor, City of Parkville, 1201 East Street, Parkville, Missouri 64152 | August 31, 2006 | 290294
Platte, (FEMA Docket No.: B7467) | City of Riverside 04-07-A556P) | May 25, 2006; June 1, 2006; The Landmark | The Honorable Kathy Rose, Mayor, City of Riverside, 2950 Northwest Vivion Road, Riverside, Missouri 64150 | August 31, 2006 | 290296
St. Charles, (FEMA Docket No.: B7467) | City of O'Fallon (04-07-A649P) | April 19, 2006; April 26, 2006; St. Charles Journal | The Honorable Donna Morrow, Mayor, City of O'Fallon, 100 North Main Street, O'Fallon, Missouri 63366 | March 31, 2006 | 290316
St. Charles, (FEMA Docket No.: B7467) | Unincorporated areas of St. Charles County (04-07-A649P) | April 19, 2006; April 26, 2006; St. Charles Journal | The Honorable Joe Ortwerth, County Executive, St. Charles County, Historic Courthouse, 100 North Third Street, St. Charles, Missouri 63301 | March 31, 2006 | 290315
St. Louis, (FEMA Docket No.: B7467) | City of Chesterfield (04-07-A535P) (06-07-B229X) | January 5, 2006; January 12, 2006; St. Louis American | The Honorable John Nations, Mayor, City of Chesterfield, 690 Chesterfield Parkway West, Chesterfield, Missouri 63017-0670 | April 13, 2006 April 14, 2006 | 290896
St. Louis, (FEMA Docket No.: B7467) | City of Eureka (06-07-B002P) | June 21, 2006; June 28, 2006; St. Louis Daily Record | The Honorable Kevin M. Coffey, Mayor, City of Eureka, P.O. Box 125, Eureka, Missouri 63025 | May 31, 2006 | 290349
St. Louis, (FEMA Docket No.: B7467) | City of Maryland Heights (04-07-A535P) (06-07-B229X) | January 5, 2006; January 12, 2006; St. Louis American | The Honorable Mike Moeller, Mayor, City of Maryland Heights, 212 Millwell Drive, Maryland Heights, Missouri 63043 | April 13, 2006 April 14, 2006 | 290889
St. Louis, (FEMA Docket No.: B7467) | City of Valley Park (06-07-B081P) | April 19, 2006; April 26, 2006; West County Suburban Journal | The Honorable Jeffery J. Whitteaker, Mayor, City of Valley Park, 320 Benton Street, Valley Park, Missouri 63088 | March 30, 2006 | 290391
St. Louis, (FEMA Docket No.: B7467) | City of Wildwood (06-07-B002P) | June 21, 2006; June 28, 2006; St. Louis Daily Record | The Honorable Edward L. Marshall, Mayor, City of Wildwood, City Hall, 16962 Manchester Road, Wildwood, Missouri 63040 | May 31, 2006 | 290922
Nebraska:
Burt, (FEMA Docket No.: B7466) | City of Tekamah (04-07-A619P) | March 15, 2006; March 22, 2006; Midwest Messenger Burt County Plaindealer | The Honorable Bill Anderson, Mayor, City of Tekamah, 1315 K Street, Tekamah, Nebraska 68061-0143 | June 21, 2006 | 310024
Lincoln, (FEMA Docket No.: B7466) | City of North Platte (04-07-A439P) | January 27, 2006; February 2, 2006; North Platte Telegraph | The Honorable G. Keith Richardson, Mayor, City of North Platte, 211 West Third Street, North Platte, Nebraska 69101 | May 4, 2006 | 310143
Sarpy, (FEMA Docket No.: B7466) | City of Bellevue (06-07-B016P) | July 19, 2006; July 26, 2006; Bellevue Leader | The Honorable Jerry Ryan, Mayor, City of Bellevue, City Hall, 210 West Mission Avenue, Bellevue, Nebraska 68005 | June 30, 2006 | 310191
North Carolina:
Buncombe, (FEMA Docket No.: B-7466) | City of Asheville (05-04-2753P) | December 22, 2005; December 29, 2005; Asheville Citizen-Times | Mr. Gary Jackson, City Manager, City of Asheville, P.O. Box 7148, Asheville, North Carolina 28802 | March 30, 2006 | 370032
Durham, (FEMA Docket No.: B-7466) | City of Chapel Hill (06-04-B144P) | January 27, 2006; January 30, 2006; Chapel Hill Herald | The Honorable Kevin C. Foy, Mayor, Town Chapel Hill, 19 Oakwood Drive, Chapel Hill, North Carolina 27517 | May 1, 2006 | 370180
Durham, (FEMA Docket No.: B-7466) | City of Durham (06-04-0057P) | August 17, 2006; August 24, 2006; Herald-Sun | The Honorable William V. Bell, Mayor, City of Durham, 101 City Hall Plaza, Durham, North Carolina 27701 | November 23, 2006 | 370086
Durham, (FEMA Docket No.: B-7466) | City of Durham (06-04-B046P) | June 15, 2006; June 22, 2006; Herald-Sun | The Honorable William V. Bell, Mayor, City of Durham, 101 City Hall Plaza, Durham, North Carolina 27701 | September 21, 2006 | 370086
Durham, (FEMA Docket No.: B-7466) | City of Durham (06-04-B144P) | January 27, 2006; January 30, 2006; Chapel Hill Herald | The Honorable William V. Bell, Mayor, City of Durham, 101 City Hall Plaza, Durham, North Carolina 27701 | May 1, 2006 | 370086
Durham, (FEMA Docket No.: B-7466) | Unincorporated areas of Durham County (06-04-0057P) | August 17, 2006; August 24, 2006; Herald-Sun | Mr. Michael M. Ruffin, County Manager, Durham County, 200 East Main Street, Second Floor, Durham, North Carolina 27701 | November 23, 2006 | 370085
Durham, (FEMA Docket No.: B-7466) | Unincorporated areas of Durham County (06-04-B144P) | January 27, 2006; January 30, 2006; Chapel Hill Herald | The Honorable Ellen W. Reckhow, Chairman, Durham County Board of Supervisors, 11 Pine Top Place, Durham, North Carolina 27705 | May 1, 2006 | 370085
Guilford, (FEMA Docket No.: B-7466) | City of High Point (05-04-3099P) | December 15, 2005; December 22, 2005; High Point Enterprise | The Honorable Rebecca Rhodes-Smoothers, Mayor, City of High Point, 1843 Country Club Drive, High Point, North Carolina 27262 | March 23, 2006 | 370113
Mecklenburg, (FEMA Docket No.: B-7466) | City of Charlotte (05-04-A580P) | May 18, 2006; May 25, 2006; Charlotte Observer | The Honorable Patrick McCrory, Mayor, City of Charlotte, 600 East Fourth Street, Charlotte, North Carolina 28202 | May 30, 2006 | 370159
Orange, (FEMA Docket No.: B-7466) | Town of Carrboro (05-04-3236P) | May 17, 2006; May 24, 2006; Chapel Hill News | The Honorable Mark Chilton, Mayor, Town of Carrboro, 301 West Main Street, Carrboro, North Carolina 27510 | April 25, 2006 | 370275
Rowan, (FEMA Docket No.: B-7466) | Unincorporated areas of Rowan County (05-04-A505P) | March 23, 2006; March 30, 2006; Salisbury Post | The Honorable Arnold Chamberlain, Chairman, Rowan County Commission, 130 West Innes Street, Salisbury, North Carolina 28144-4326 | June 29, 2006 | 370351
Wake, (FEMA Docket No.: B-7466) | Town of Cary (06-04-1527P) | July 20, 2006; July 27, 2006; Wake Weekly | The Honorable Ernie McAlister, Mayor, Town of Cary, P.O. Box 8005, Cary, North Carolina 27512-8005 | June 30, 2006 | 370238
Wake, (FEMA Docket No.: B-7466) | Town of Cary (05-04-3129P) | August 24, 2006; August 31, 2006; Wake Weekly | The Honorable Ernie McAlister, Mayor, Town of Cary, P.O. Box 8005, Cary, North Carolina 27512-8005 | November 30, 2006 | 370238
Wake, (FEMA Docket No.: B-7466) | Town of Cary (06-04-B143P) | January 27, 2006; January 30, 2006; News and Observer | The Honorable Ernie McAlister, Mayor, Town of Cary, P.O. Box 8005, Cary, North Carolina 27512-8005 | May 1, 2006 | 370238
Wake, (FEMA Docket No.: B-7466) | Town of Morrisville (05-04-3129P) | August 24, 2006; August 31, 2006; Wake Weekly | The Honorable Jan Faulkner, Mayor, Town of Morrisville, Morrisville Town Hall, 100 Town Hall Drive, Morrisville, North Carolina 27560 | November 30, 2006 | 370242

(Catalog of Federal Domestic Assistance No. 83.100, “Flood Insurance.”)

Dated: March 16, 2007.
David I. Maurstad,
Director, Mitigation Division, Federal Emergency Management Agency, Department of Homeland Security.

[FR Doc. E7-5618 Filed 3-27-07; 8:45 am]

BILLING CODE 9110-12-P